DEPARTMENT OF COMMERCE

National Oceanic and Atmospheric Administration

RIN 0648-XE068

Pacific Fishery Management Council; Public Meeting

AGENCY: National Marine Fisheries Service (NMFS), National Oceanic and Atmospheric Administration (NOAA), Commerce.

ACTION: Notice; public meeting.

SUMMARY: The Pacific Fishery Management Council's (Pacific Council) Ad Hoc Ecosystem Work Group (EWG) will hold a webinar, which is open to the public.

DATES: The EWG will hold the webinar on Monday, August 10, 2015, from 1 p.m. until business for the day is complete.

ADDRESSES: To attend the webinar, visit: http://www.gotomeeting.com/online/webinar/join-webinar. Enter the Webinar ID, which is 133-662-499, and your name and email address (required). Participants are encouraged to use their telephone, as this is the best practice to avoid technical issues and excessive feedback. (See the PFMC GoToMeeting Audio Diagram for best practices). Please use your telephone for the audio portion of the meeting by dialing this TOLL number 1+415-655-0059 (not a toll-free number); then enter the Attendee phone audio access code: 921-628-560; then enter your audio phone pin (shown after joining the webinar). System Requirements for PC-based attendees: Required: Windows® 7, Vista, or XP; for Mac®-based attendees: Required: Mac OS® X 10.5 or newer; and for mobile attendees: iPhone®, iPad®, Android™ phone or Android tablet (See the GoToMeeting Webinar Apps).

You may send an email to Mr. Kris Kleinschmidt or contact him at (503) 820-2280, extension 425 for technical assistance. A public listening station will also be provided at the Pacific Council office.

Council address: Pacific Council, 7700 NE Ambassador Place, Suite 101, Portland, OR 97220-1384.

FOR FURTHER INFORMATION CONTACT: Dr. Kit Dahl, Pacific Council; telephone: (503) 820-2422.

SUPPLEMENTARY INFORMATION: During this work session, the EWG will discuss finalizing its report for the Council's September 2015 meeting in Sacramento, California. The Council has asked for an EWG report on two draft Fishery Ecosystem Plan (FEP) initiatives: An initiative for a coordinated review of the indicators used in the annual National Marine Fisheries Service's California Current Ecosystem Status Report; and an initiative on the potential multi-fisheries and multi-species effects of short-term climate shift and long-term climate change. Other topics may include one or more of the Council's scheduled Administrative Matters. Public comments during the webinar will be received from attendees at the discretion of the EWG Chair.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2280, extension 425 at least 5 days prior to the meeting date.

Dated: July 21, 2015.
Tracey L. Thompson,
Acting Deputy Director, Office of Sustainable Fisheries, National Marine Fisheries Service.

[FR Doc. 2015-18249 Filed 7-24-15; 8:45 am]

BILLING CODE 3510-22-P